DEPARTMENT OF AGRICULTURE

Agricultural Marketing Service

[Doc. No. AMS-FV-10-011]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval, from the Office of Management and Budget, for an extension of and revision to the currently approved information collection Regulations Governing Inspection, Certification and Standards for Fresh Fruit, Vegetables and Other Products 7 CFR part 51.

DATES: Comments on this notice must be received by May 3, 2010 to be assured of consideration.

ADDRESSES: Interested persons are invited to submit written comments on the internet at: http://www.regulations.gov or to Michael V. Morrelli, Head, Field Operations Section, Fresh Fruit and Vegetable Programs, Agricultural Marketing Service, U.S. Department of Agriculture, 1400 Independence Ave., SW., Room 1661 South Building, Stop 0240, Washington, DC, 20250-0240; Phone (202) 2482, Fax (202) 720-0393. Comments should make reference to the dates and page number of this issue of the Federal Register. All comments received will be posted without change, including any personal information provided, and will be available for public inspection via the Internet at http://www.regulations.gov or at the address cited above during regular business hours.

Additional Information: Michael V. Morrelli, Head, Field Operations Section, Fresh Fruit and Vegetable Programs, Agricultural Marketing Service, U.S. Department of Agriculture, 1400 Independence Ave., SW., Room 1661 South Building, Stop 0240, Washington, DC, 20250-0240; Phone (202) 2482, Fax (202) 720-0393: E-mail mike.morrelli@ams.usda.gov.

SUPPLEMENTARY INFORMATION: Title: Regulations Governing Inspection, Certification and Standards for Fresh Fruit, Vegetables and Other Products 7 CFR part 51.

OMB Number: 0581-0125 .

Expiration Date of Approval: August 31, 2010.

Type of Request: Extension and revision of a currently approved information collection.

Abstract: The Agricultural Marketing Act of 1946, as amended 7 U.S.C., 1621-1627 authorizes the Secretary to inspect and certify the quality of the agricultural products and collect such fees as to reasonable to cover the cost of service rendered, under 7 CFR part 51. The Fresh Products Branch provides a nationwide inspection and grading service for fresh fruit, vegetables and other products to shippers, importers, processors, sellers, buyers, and other financially interested parties on a “user fee” basis. This use of service is voluntary and is made available only upon request or when specified by some special program or contract. Information is needed to carry out the inspection and grading services. Such information includes: the name and location of the person or company requesting the inspection, the type and location of the product to be inspected, the type of inspection being requested and any information that will identify the product.

Estimate of Burden: Public reporting burden for this collection of information is estimated to average .03 hours per response.

Respondents: Shippers, importers, processors, seller, buyers, and others with a financial interest in the lots of fresh fruit, vegetables and other products.

Estimated Number of Respondents: 50100.

Estimated Total Annual Responses: 279806.

Estimated Number of Responses per Respondent: 5.58.

Estimated Total Annual Burden on Respondents: 8502 hr.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Dated: February 25, 2010.
Rayne Pegg,
Administrator, Agricultural Marketing Service.

[FR Doc. 2010-4339 Filed 3-2-10; 8:45 am]

BILLING CODE P